DEPARTMENT OF TRANSPORTATION

Surface Transportation Board

[STB Docket No. AB-577X]

Mohall Railroad, Inc.—Abandonment Exemption—in Bottineau, Renville, Ward and McHenry Counties, ND

On December 19, 2000, Mohall Railroad, Inc. (MRI) filed with the Surface Transportation Board (Board) a petition under 49 U.S.C. 10502 for exemption from the provisions of 49 U.S.C. 10903 to abandon a line of railroad known as the Mohall Line, extending from milepost 5.25 to milepost 35.0, a distance of 29.75 miles in Bottineau, Renville, Ward and McHenry Counties ND.¹ The line traverses U.S. Postal Service Zip Codes 58731, 58740, 58741, and 58750, and includes the stations of Deering (milepost 12.9), Wolseth (approximately milepost 18), and Glenburn (milepost 24.3).

¹ The Burlington Northern and Santa Fe Railway Company (BNSF), as successor to the Burlington Northern Railroad Company, is generally prohibited from abandoning in excess of 350 miles of rail lines in North Dakota, a mileage total BNSF has already reached. See section 402 of the Department of Transportation and Related Agencies Appropriation Act of 1982 (Pub. L. No. 97-102, 1982). This limitation applies to the abandonment of any BNSF lines in North Dakota, even after their sale to third parties, and would thus normally be applicable to the Mohall Line. However, by an amendment effective October 5, 2000, the specific segment of track involved here may be abandoned without being counted against this 350-mile limitation. See Pub. L. No. 106-940, sec. 372.

The line does not contain federally granted rights-of-way. Any documentation in MRI's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by April 6, 2001.

Any offer of financial assistance (OFA) under 49 CFR 1152.27(b)(2) will be due no later than 10 days after service of a decision granting the petition for exemption. Each offer must be accompanied by a $1,000 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than January 29, 2001. Each trail use request must be accompanied by a $150 filing fee. See 49 CFR 1002.2(f)(27).

All filings in response to this notice must refer to STB Docket No. AB-577X and must be sent to: (1) Surface Transportation Board, Office of the Secretary, Case Control Unit, 1925 K Street, N.W., Washington, DC 20423-0001; and (2) Mark S. Radke and Byron D. Olsen, Felhaber, Larson, Fenlon & Vogt, P.A., 601 Second Ave., South, Suite 4200, Minneapolis, MN 55402. Replies to the petition are due on or before January 29, 2001.

Persons seeking further information concerning abandonment procedures may contact the Board's Office of Public Services at (202) 565-1592 or refer to the full abandonment or discontinuance regulations at 49 CFR part 1152. Questions concerning environmental issues may be directed to the Board's Section of Environmental Analysis (SEA) at (202) 565-1545. [TDD for the hearing impaired is available at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at “WWW.STB.DOT.GOV.”

Decided: January 3, 2001.
By the Board, David M. Konschnik, Director, Office of Proceedings.
Vernon A. Williams,
Secretary.

[FR Doc. 01-503 Filed 1-5-01; 8:45 am]

BILLING CODE 4915-00-P